DEPARTMENT OF TRANSPORTATION

Federal Aviation Administration

14 CFR Parts 61, 91, and 141

[Docket No. FAA-2008-0938; Notice No. 09-08]

RIN 2120-AJ18

Pilot in Command Proficiency Check and Other Changes to the Pilot and Pilot School Certification Rules

AGENCY: Federal Aviation Administration (FAA), DOT.

ACTION: Notice of proposed rulemaking (NPRM).

SUMMARY: The FAA is proposing several changes to our pilot, flight instructor, and pilot school certification rules. The proposals include requiring pilot-in-command (PIC) proficiency checks for pilots who act as PIC of single piloted, turbojet-powered airplanes; allowing pilot applicants to apply for a private pilot certificate and an instrument rating concurrently; and making allowance in the rule to provide for the issuance of standard U.S. pilot certificates on the basis of an international licensing agreement between the FAA and a foreign civil aviation authority. The FAA has recently entered into such an agreement with the civil aviation authority of Canada. The FAA is also proposing to allow pilot schools to use Internet-based training programs without requiring schools to have a physical ground training facility. The FAA is proposing to allow pilot schools and provisional pilot schools to apply for a combined private pilot certification and instrument rating course. The FAA is also proposing to revise the definition of “complex airplane.” Because of changing technology in aviation, the results of successful research, and an international agreement, the FAA has determined these proposed changes to the pilot, flight instructor, and pilot school certification rules are necessary to ensure pilots are adequately trained and qualified to operate safely in the National Airspace System. The FAA has determined these proposals are needed to respond to changes in the aviation industry and to further reduce unnecessary regulatory burdens.

DATES: Send your comments to reach us on or before November 30, 2009.

ADDRESSES: You may send comments identified by Docket Number FAA-2008-0938 using any of the following methods:

• Federal eRulemaking Portal: Go to http://www.regulations.gov and follow the online instructions for sending your comments electronically.

• Mail: Send comments to Docket Operations, M-30; U.S. Department of Transportation, 1200 New Jersey Avenue, SE., Room W12-140, West Building Ground Floor, Washington, DC 20590-0001.

• Hand Delivery or Courier: Take comments to Docket Operations in Room W12-140 of the West Building Ground Floor at 1200 New Jersey Avenue, SE., Washington, DC, between 9 a.m. and 5 p.m., Monday through Friday, except Federal holidays.

• Fax: Fax comments to Docket Operations at 202-493-2251.

For more information on the rulemaking process, see the SUPPLEMENTARY INFORMATION section of this document.

Privacy: We will post all comments we receive, without change, to http://www.regulations.gov, including any personal information you provide. Using the search function of our docket web site, anyone can find and read the electronic form of all comments received into any of our dockets, including the name of the individual sending the comment (or signing the comment for an association, business, labor union, etc.) You may review DOT's complete Privacy Act Statement in the Federal Register published on April 11, 2000 (65 FR 19477-78) or you may visit http://docketsInfo.dot.gov.

Docket: To read background documents or comments received, go to http://www.regulations.gov at any time and follow the online instructions for accessing the docket. Or, go to the Docket Management Facility in Room W12-140 of the West Building Ground Floor at 1200 New Jersey Avenue, SE., Washington, DC, between 9 a.m. and 5 p.m., Monday through Friday, except Federal holidays.

FOR FURTHER INFORMATION CONTACT: For technical questions concerning this proposed rule contact John D. Lynch, Certification and General Aviation Operations Branch, General Aviation and Commercial Division, AFS-810, Federal Aviation Administration, 800 Independence Avenue, SW., Washington, DC 20591; telephone (202) 267-3844; e-mail john.d.lynch@faa.gov. For legal questions concerning this proposed rule contact Michael Chase, Esq., Office of Chief Counsel, AGC-240, Regulations Division, Federal Aviation Administration, 800 Independence Avenue, SW., Washington, DC 20591; telephone (202) 267-3110; e-mail michael.chase@faa.gov.

SUPPLEMENTARY INFORMATION: Later in this preamble under the Additional Information section, we discuss how you can comment on this proposal and how we will handle your comments. Included in this discussion is related information about the docket, privacy, and the handling of proprietary or confidential business information. We also discuss how you can get a copy of this proposal and related rulemaking documents.

I. Authority for This Rulemaking

The FAA's authority to issues rules regarding aviation safety is found in Title 49 of the United States Code. Subtitle I, section 106 describes the authority of the FAA Administrator, including the authority to issue, rescind, and revise regulations. Subtitle VII, Aviation Programs, describes in more detail the scope of the agency's authority.

This rulemaking is promulgated under the authority described in Subtitle VII, Part A, Chapter 447—Safety Regulation. Under section 44701, the FAA is charged with promoting safe flight of civil aircraft in air commerce by prescribing regulations necessary for safety. Under section 44703, the FAA issues an airman certificate to an individual when we find, after investigation, that the individual is qualified for, and physically able to perform the duties related to, the position authorized by the certificate. In this NPRM, we are proposing to amend the training, qualification, certification, and operating requirements for pilots.

The proposing changes are intended to ensure that flight crewmembers have the training and qualifications to operate aircraft safety. For this reason, the proposed changes are within the scope of our authority and are a reasonable and necessary exercise of our statutory obligations.

II. Background

This notice of proposed rulemaking (NPRM) includes 16 changes to FAA's existing pilot, flight instructor, and pilot school certification regulations. These regulations are published in Title 14 of the Code of Federal Regulations, the pilot certifications regulations appear in part 61, the flight instruction regulations appear in part 91, and the pilot school certification regulations appear in part 141. The proposed changes update are regulations to reflect advances in aircraft design and avionics, pilot training, and international relations. One of the proposed amendments requires proficiency checks for a pilot who acts as single pilot in comment of a turbo-jet powered airplane. These new turbojet-powered airplanes are widely referred to as very light jets (VLJs). Other proposed changes relate to improved pilot training methods including the use of Internet-based training programs and concurrent pilot certification and instrument rating training. The FAA is also proposing to revise § 61.71 to provide for the issuance of standard U.S. pilot certificates on the basis of an international licensing agreement between the FAA and a foreign civil aviation authority. Recently, the FAA entered into an Implementation Procedures for Licensing (IPL) agreement with the civil aviation authority from Transport Canada to establish reciprocity of pilot certification for the private pilot, commercial pilot, and airline transport pilot certificates for the airplane and instrument-airplane ratings.

III. Summary Table of Proposed Changes

The table below lists the proposed changes contained in this NPRM in order of their Code of Federal Regulations (CFR) designations.

Proposal No. | CFR designation | Summary of the proposed changes
1 | § 61.1(b)(3) | Proposal to revise the definition of “complex airplane” to include airplanes equipped with a full authority digital engine control (FADEC) and move it from § 61.31(e) to § 61.1(b)(3).
2 | § 61.58(a)(1) & (2) and (d)(1)-(4) | Proposal to require a § 61.58 PIC proficiency check for PICs of single piloted, turbojet-powered airplanes.
3 | § 61.65(a)(1) | Proposal to permit the application for and the issuance of an instrument rating concurrently with a private pilot certificate for pilots.
4 | § 61.71(c) | Proposal to allow the conversion of a foreign pilot license to a U.S. pilot certificate based on an Implementation Procedure for Licensing (IPL) agreement.
5 | § 61.129(a)(3)(ii) | Commercial pilot certificate, airplane single engine class rating—Proposal to replace the 10 hours of complex airplane aeronautical experience with 10 hours of advanced instrument training.
6 | § 61.129(b)(3)(ii) | Commercial pilot certificate, airplane multiengine class rating—Proposal to replace the 10 hours of complex multiengine airplane aeronautical experience with 10 hours of advanced instrument training.
7 | § 91.109(a) and (b)(3) | Proposal to expand the use of airplanes with a single, functioning throwover control wheel for providing expanded flight training. This proposal parallels the long standing grants of exemptions that the FAA has issued to many petitioners for use with certain airplanes with a single, functioning throwover control wheel.
8 | § 141.45 | Proposal to allow pilot schools and provisional pilot schools an exception to the requirement to have a ground training facility when the training course is an online, computer-based training program.
9 | § 141.55(c)(1) | Proposal to allow pilot schools and provisional pilot schools an exception to the requirement to describe each room used for ground training when the training course is an online, computer-based training program.
10 | Part 141, Appx D, para. 4.(b)(1)(ii) | Commercial pilot certification course for an airplane single engine class rating—Proposal to replace the 10 hours of complex airplane training with 10 hours of advanced instrument training.
11 | Part 141, Appx D, para. 4.(b)(2)(ii) | Commercial pilot certification course for an airplane multiengine class rating—Proposal to replace the 10 hours of complex multiengine airplane training with 10 hours of advanced instrument training.
12 | Part 141, Appx I, para. 4.(a)(3)(ii) | Additional airplane single-engine class rating at the commercial pilot certification level—Proposal to replace the 10 hours of complex airplane training with 10 hours of advanced instrument training.
13 | Part 141, Appx I, para. 4.(b)(2)(ii) | Additional airplane multiengine class rating at the commercial pilot certification level—Proposal to replace the 10 hours of complex multiengine airplane training with 10 hours of advanced instrument training.
14 | Part 141, Appx I, para. 4.(j)(2)(ii) | Additional airplane single-engine class rating at the commercial pilot certification level—Proposal to replace the 10 hours of complex airplane training with 10 hours of advanced instrument training.
15 | Part 141, Appx I, para. 4.(k)(2)(ii) | Additional airplane multiengine class rating at the commercial pilot certification level—Proposal to replace the 10 hours of complex multiengine airplane training with 10 hours of advanced instrument training.
16 | Part 141, Appx M | Proposal to establish a combined private pilot certification and instrument rating course.

On August 21, 2009, the FAA published a final rule entitled, “Pilot, Flight Instructor, and Pilot School Certificate” (See 74 FR 42500). In that final rule, we established paragraphs 4.(a)(3)(ii), (b)(2)(ii), (j)(2)(ii), and (k)(2)(ii) in part 141, appendix I to clarify the training requirements for an additional aircraft category and class rating courses. In proposal Nos. 12, 13, 14, and 15 of this preamble, we are now proposing additional changes to paragraphs 4.(a)(3)(ii), (b)(2)(ii), (j)(2)(ii) and (k)(2)(ii) in part 141, appendix I to replace the 10 hours of complex airplane training with 10 hours of advanced instrument training.

IV. Description of Proposed Changes

(1) Proposal to revise the definition of “complex airplane” and move it from § 61.31(e) to § 61.1(b)(3).

The FAA proposes to revise the definition of “complex airplane” to include airplanes that are equipped with a full authority digital engine control (FADEC) system consisting of a digital computer and associated accessories for controlling both the engine and propeller with a single lever control. On November 2, 2006, we issued FAA Notice No. 8000.331, “Airplanes Equipped with Retractable Landing Gear, Flaps, and FADEC Meet the Definition of a Complex Airplane (hereafter ‘Complex Airplane Notice’).” That Notice made the public aware of our determination that airplanes equipped with a retractable landing gear, flaps, and a FADEC system met the definition of a “complex airplane.” In that Notice, we also stated that a FADEC-equipped airplane with a retractable landing gear and flaps may be used for the training and practical test to meet the “complex airplane” requirement for the airplane single-engine and multiengine land ratings at the commercial pilot certification and flight instructor certification.

The current definition of a “complex airplane” in § 61.31(e) requires that the airplane have a retractable landing gear, flaps, and a controllable pitch propeller. As a result, a number of training providers have complained to the FAA that they have had to keep older airplanes in their inventory that meet this current § 61.31(e) “complex airplane” definition for providing commercial pilot and flight instructor training of § 61.129(a)(3)(ii) or § 61.129(b)(3)(ii) and the additional training requirements of § 61.31(e). To remove this unnecessary burden, we are proposing to consider an airplane equipped with a FADEC system as being equivalent to one having a controllable pitch propeller.

(2) Proposal to require a recurrent PIC proficiency check for a PIC of a single piloted, turbojet-powered airplane.

The FAA is proposing to revise § 61.48 by requiring PIC proficiency checks for pilots who act as PIC of single piloted, turbojet-powered airplanes. Section 61.58 currently requires a PIC of aircraft requiring more than one pilot flight crewmember to undergo a proficiency check.

The number of single piloted, turbojet-powered airplanes is expected to increase dramatically in the next few years. The expansion of single piloted, turbojet-powered airplanes is the result of new designs that are substantially lower in cost and smaller in size. These new turbojet-powered airplanes are widely referred to as very light jets (VLJs).

In July 2005, the FAA convened a study group, known as the Very Light Jet (VLJ) Cross Organizational Group, to identify concerns regarding the safe operation of VLJs and other single piloted, turbojet-powered airplanes. One concern was that existing § 61.58 does not require a pilot in command (PIC) of a single piloted, turbojet-powered airplane to complete a recurrent PIC proficiency check. The § 61.58 PIC proficiency check currently applies only to a PIC of an aircraft that is type certificated for more than one required pilot flight crewmember. Thus, under current rules it would be possible for a pilot to accomplish the flight review required under § 61.56 in a glider, balloon, or small general aviation aircraft, such as a Cessna 152, and then act as PIC in a single piloted, turbojet-powered airplane.

When § 61.58 was originally adopted, there were no single piloted turbojet-powered airplanes and the FAA did not have to address whether a proficiency check was needed for single-piloted turbojet operations. However, with the manufacture of the Cessna Citation series beginning in the 1980s, some turbojet-powered airplanes have been certificated to be operated by one pilot, such as Cessna Citations and Citation Jets (Cessna 501, Cessna 551, and Cessna 515). Since § 91.531 requires large aircraft and most turbojet-powered, multiengine airplanes to be operated with a second-in-command pilot flight crewmember, the FAA began issuing grants of exemption to operators and training providers of two-piloted Cessna Citation (CE500, CE550, CE552, and CE450) to enable operations with one pilot. These grants of exemption were issued with certain conditions, one of which requires a PIC to undergo annual PIC training and proficiency checks.

With the number of VLJs estimated to be in operation in the future, the FAA anticipates that there may be many less-experienced owners and operators of these airplanes. The FAA believes that requiring § 61.58 PIC proficiency checks in single piloted, turbojet-powered airplanes will help ensure that these airplanes are operated by competent and proficient pilots. This proposed change would affect pilots who serve as PIC in single piloted, turbojet-powered airplanes, such as the Cessna 501, Cessna 525, Cessna 551, Raytheon 390, and Eclipse 500. (Pilots operating single piloted, turbojet-powered airplane with an experimental airworthiness certificate also would be affected.) The number of pilots affected will increase as the number of single piloted, turbojet-powered airplanes increase. There are several manufacturers who have such airplanes under development and the fleet is expected to expand significantly.

(3) Proposal to permit the issuance of an instrument rating concurrently with a private pilot certificate.

The FAA proposes to revise § 61.65(a)(1) to allow applicants for a private pilot certificate and instrument rating to apply concurrently for the private pilot certificate with an instrument rating. This proposal would also result in adding a new appendix M to part 141 to establish a combined private pilot certification and instrument rating course. (See proposal number 16 in this preamble for further explanation.)

Under existing § 61.65(a)(1), an applicant for an instrument rating must hold at least a private pilot certificate that is appropriate to the instrument rating sought. This precludes an applicant from simultaneously applying for both the private pilot certificate and instrument rating and performing one practical test for both the private pilot certificate and instrument rating. For several years the FAA co-sponsored studies and research with Advanced General Aviation Transport Experiment (AGATE), FAA and Industry Training Standards (FITS), Middle Tennessee State University (MTSU), and Embry Riddle Aeronautical University (ERAU) to explore the feasibility of private pilot applicants obtaining an instrument rating while concurrently enrolled in a private pilot certification course. The FAA has issued grants of exemption to ERAU and MTSU where we have monitored the feasibility of private pilot applicants receiving training concurrently for private pilot certification and instrument rating, and whether it can be done safely and efficiently.

In 1994, AGATE was founded to develop affordable new technology as well as industry standards and certification methods for airframe, cockpit, flight training systems, and airspace infrastructure for the next generation of single piloted, all-weather light airplanes. The Flight Training Curriculum Workgroup was established to develop and validate advanced training technologies and techniques that take advantage of emerging technologies. The Workgroup developed a combined private pilot certificate and instrument rating training curriculum with part 141 pilot schools. In 1999, the FAA granted ERAU an exemption from § 61.65(a)(1). That exemption (Exemption No. 7168) permitted graduates of ERAU's combined private pilot and instrument rating course to take the combined private pilot certification and instrument rating airplane single-engine land practical test. In 2004, the FAA granted MTSU an exemption from § 61.65(a)(1). That exemption (Exemption No. 8456) allows graduates of MTSU's combined private pilot certificate and instrument rating course to take the private pilot and instrument rating practical test simultaneously.

ERAU's and MTSU's combined private pilot and instrument rating course has demonstrated that some of their students were able to handle the combined course and demonstrate the required knowledge, skills, and abilities to operate safely under both visual meteorological conditions (VMC). Historically, accident statistics show that all weather-related accidents account for approximately 4.0 percent of total accidents. For single engine airplanes with a fixed landing gear, the airplane used predominantly by both student and private pilots, by far the largest weather-related accident cause is continuing to fly under VFR into IMC. This occurs when a pilot encounters changing weather conditions and does not land prior to encountering IMC. The proposed rule change would permit private pilot applicants to combine their private pilot and instrument training, which would improve their skills to operate in IMC and should reduce weather-related accidents. Thus, the FAA is proposing to revise § 61.65(a)(1) to allow applicants for an instrument rating to concurrently apply for a private pilot certificate.

(4) Proposal to allow the conversion of a foreign pilot license to a U.S. pilot certificate based on an Implementation Procedures for Licensing (IPL) agreement.

The FAA proposes to amend § 61.71 by adding a new paragraph (c) to allow the conversion of foreign pilot licenses to equivalent U.S. pilot certificates that are issued on the basis of an Implementation Procedures for Licensing (IPL) agreement that has been approved by the Administrator and the licensing authority of a foreign civil aviation authority.

On June 12, 2000, the United States and Canada signed an international agreement known as a Bilateral Aviation Safety Agreement (BASA). This agreement facilitates the mutual acceptance of various aspects of aviation safety oversight systems for the benefit of pilots and other uses of those systems. It also promotes the efficiency of the aviation authorities of the respective countries through cooperative agreements. In the BASA, Canada and the United States have developed supporting agreements in the form of technical annexes called implementation procedures that address specific areas of aviation safety activities. The technical annex addressing pilot licensing is called Implementation Procedures for Licensing or IPL. The IPL permits pilots holding certain pilot licenses or certificates from either country to obtain a pilot license or certificate from the other country after the pilot applicant has met the appropriate qualifications and certification requirements.

To execute an IPL, the BASA requires the FAA and Transport Canada Civil Aviation (TCCA) to first evaluate each other's pilot licensing standards and procedures and compare them to their own to determine what, if any, additional requirements would be necessary to assure that the pilots are in compliance with their own standards. This task has been completed and the associated IPL was signed by FAA and TCCA on July 14, 2006. This IPL allows holders of FAA pilot certificates and holders of TCCA pilot licenses to convert to Canadian pilot licenses and U.S. pilot certificates, respectively. The IPL currently is limited to the airplane category of aircraft at the private, commercial, and airline transport pilot levels of licenses or certificates, and includes the following ratings or qualifications: instrument rating, class ratings of airplane single engine land (ASEL) and airplane multi-engine land (AMEL), type ratings, and night qualification addressed under part 61 and Canadian Aviation Regulations Part IV. The FAA and TCCA have agreed that they may amend the IPL to allow conversion of other licenses or certificates in the future. Therefore, to issue a U.S. pilot certificate on the basis of this IPL, the FAA proposes to revise § 61.71 to allow holders of TCCA pilot licenses to convert to U.S. pilot certificates.

This proposal would merely allow the issuance of a standard U.S. pilot certificate on the basis of an IPL agreement between the FAA and a foreign civil aviation authority. To date, our agreement with TCCA is the only IPL that we have entered into, and the agreement serves as the basis for proposing § 61.71(c). The issuance of a U.S. private pilot certificate and ratings under § 61.75 is a separate pilot certification process.

(5) Commercial pilot certificate, airplane single-engine class rating—Proposal to replace the 10 hours of complex airplane aeronautical experience with 10 hours of advanced instrument training.

The FAA proposes to eliminate the requirement for 10 hours of aeronautical experience in a complex airplane in § 61.129(a)(3)(ii) and replace it with 10 hours of advanced instrument training in a single-engine airplane, or in a flight simulator, flight training device, or an aviation training device that replicates a single-engine airplane. The training must include instrument approaches consisting of both precision and non-precision approaches, holding at navigational radio stations, intersections, waypoints, and cross-country flying that involve performing takeoff, area departure, enroute, area arrival, approach, and missed approach phases of flight.

The FAA proposes to revise the Commercial Pilot Certification—Airplane Single Engine (Land and Sea) rating because fewer single-engine airplanes are being produced with retractable landing gears. Manufacturers of general aviation airplanes now produce technologically advanced airplanes with “glass cockpits,” but which do not have retractable landing gears. Many pilot schools have complained about the necessity to keep 30-year old Cessna 172RGs and Piper Arrows in inventory, which are less technically advanced airplanes, for the sole purpose of providing 10 hours of complex airplane training. Furthermore, the FAA has determined that most commercial pilot applicants are simultaneously applying for the Instrument-Airplane rating, and this proposal would reduce training costs and align the rules with current training and certification practices.

(6) Commercial pilot certificate, airplane multiengine class rating—Proposal to replace the 10 hours of complex multiengine airplane aeronautical experience with 10 hours of advanced instrument training.

The FAA proposes to amend § 61.129(b)(3)(ii) to eliminate the requirement for 10 hours of aeronautical experience in a complex multiengine airplane and replace it with 10 hours of advanced instrument training in a multiengine airplane, or in a flight simulator, flight training device, or an aviation training device that replicates a multiengine airplane. The training must include instrument approaches consisting of both precision and non-precision approaches, holding at navigational radio stations, intersections, waypoints, and cross-country flying that involved performing takeoff, area departure, enroute, area arrival, approach, and missed approach phases of flight.

The FAA proposes to amend § 61.129(b)(3)(ii) for the Commercial Pilot Certification—Airplane Multiengine (Land and Sea) rating because this training would be more beneficial if it were devoted to the development of proficiency using instruments. This proposed change to § 61.129(b)(3)(ii) for the Commercial Pilot Certification—Airplane Multiengine (Land and Sea) rating would parallel the proposed change being considered for the Commercial Pilot Certification—Airplane Single-Engine (land and Sea) rating in for § 61.129(a)(3)(ii). Therefore, the FAA proposes to replace the complex multiengine airplane training with advanced instrument training.

(7) Proposal to expand the use of an airplane with a single, functioning throwover control wheel for providing certain kinds of flight training and checking.

The FAA proposes to revise § 91.109(a) to allow for use of an airplane with a single, functioning throwover control wheel for conducting flight instruction. We also propose to revise § 91.109(b)(3) to allow for the use of an airplane with a single, functioning throwover control wheel for conducting a flight review, performing recent flight experience, instrument flight experience, and instrument competency checks.

Existing § 91.109(a) provides for conducting instrument flight instruction in a single engine airplane with a single, functioning throwover control wheel. Existing § 91.109(b)(3) provides for using a single engine airplane with a single, functioning throwover control wheel during simulated instrument flight.

Since August 30, 1993, the FAA has issued several grants of exemption and extensions. These grants of exemption allow instructors to provide recurrent flight training and simulated instrument flight training in certain aircraft, such as, Beechcraft Barons, Bonanzas, Debonairs, and Travel Air that are equipped with a single, functioning throwover control wheel for the purpose of meeting the recency of experience requirements and flight review contained in §§ 61.56(a), (b), and (f) and 61.57(e)(1) and (2). This proposal would amend § 91.109(a) and (b)(3) to incorporate the conditions and limitations that are stated in those grants of exemption.

(8) Proposal to allow pilot schools and provisional pilot schools an exception to the requirement to have a ground training facility when the training course is an online, computer-based training program.

The FAA proposed to revise § 141.45 to allow an exception for pilot schools and provisional pilot schools to the requirement to have a ground training facility when the training course is an online, computer-based training program. Examples of online, computer-based training are the flight instructor refresher courses, pilot ground school courses, aeronautical knowledge training courses, and some elements of subpart K of part 141 special preparation courses.

When part 141 was originally developed by the FAA in 1960, we did not envision that aviation training would be available on a personal computer via the Internet. More recently, the FAA has approved several training providers to conduct flight instructor refresher training through the Internet. Our experience with this kind of Internet-based training has shown that this training provides an equivalent level of supervision by the training provider without requiring the student to be physically present in a classroom. The training providers for this kind of Internet-based training have a permanent business location and telephone, and the training course software allows the FAA to monitor the training from a remote site. For this reason, our rules should not prohibit part 141 pilot schools from conducting Internet-based training, nor should there necessarily be a ground training facility when training is being provided via the Internet.

(9) Proposal to allow pilot schools and provisional pilot schools an exception from the requirement to describe each room used for ground training course is an online, computer-based training program.

The FAA proposes to revise § 141.55(c)(1) by providing an exception for pilot schools and provisional pilot schools from the requirement to describe each room used for ground training when the training course is an online, computer-based training program. Examples of online, computer-based training are flight instructor refresher courses, pilot ground school courses, aeronautical knowledge training courses, and some elements of appendix K, part 141 for special preparation courses. We are proposing this change for the same reasons previously discussed in proposal No. 8 of this preamble.

(10) Commercial pilot certification course for an airplane single-engine class rating—Proposal to replace the 10 hours of complex airplane training requirement with 10 hours of advanced instrument training.

The FAA proposes to revise part 141, appendix D, paragraph 4.(b)(1)(ii) to correspond to the change proposed for § 61.129(a)(3)(ii), which is previously discussed in proposal No. 5 of this preamble document. This proposed change would require part 141 pilot schools to revise their commercial pilot certification courses by replacing 10 hours of training in a “complex airplane” with 10 hours of advanced instrument training in a single-engine airplane, or in a flight simulator, flight training device, or an aviation training device that replicates a single engine airplane.

(11) Commercial pilot certification course for an airplane multiengine class rating—Proposal to replace the 10 hours of complex multiengine airplane training requirement with 10 hours of advanced instrument training.

The FAA proposes to revise part 141, appendix D, paragraph 4.(b)(2)(ii) to correspond to the change proposed for § 61.129(b)(3)(ii), which is previously discussed in proposal No. 6 of this preamble. This proposed change would require part 141 pilot schools to revise their commercial pilot certification courses by replacing 10 hours of training in a “complex multiengine airplane” with 10 hours of advanced instrument training in a multiengine airplane, or in a flight simulator, flight training device, or an aviation training device that replicates a multiengine airplane.

(12) Additional airplane single-engine class rating at the commercial pilot certification level—Proposal to replace the 10 hours of complex airplane training with 10 hours of advanced instrument training.

The FAA proposes to revise part 141, appendix I, paragraph 4.(a)(3)(ii) to correspond to the change proposed for part 141, appendix D, paragraph 4.(b)(1)(ii), which is previously discussed in proposal No. 5 of this NPRM document. This proposed change would require part 141 pilot schools to revise their commercial pilot certification courses by replacing 10 hours of training in a ``complex airplane'' with 10 hours of advanced instrument training in a single-engine airplane, or in a flight simulator, flight training device, or an aviation training device that replicates a single engine airplane.

(13) Additional airplane multiengine class rating at the commercial pilot certification level—Proposal to replace the 10 hours of complex multiengine airplane training requirement with 10 hours of advanced instrument training.

The FAA proposes to revise part 141, appendix I, paragraph 4.(b)(2)(ii) to correspond to the change proposed for part 141, appendix D, paragraph 4.(b)(2)(ii), which is previously discussed in proposal No. 6 of this preamble. This proposed change would require part 141 pilot schools to revise their commercial pilot certification courses by replacing 10 hours of training in a ``complex multiengine airplane'' with 10 hours of advanced instrument training in a multiengine airplane, or in a flight simulator, flight training device, or an aviation training device that replicates a multiengine airplane.

(14) Additional airplane single-engine class rating at the commercial pilot certification level—Proposal to replace the 10 hours of complex airplane training with 10 hours of advanced instrument training.

The FAA proposes to revise part 141, appendix I, paragraph 4.(j)(2)(ii) to correspond to the change proposed for part 141, appendix I, paragraph 4.(a)(3)(ii), which is previously discussed in proposal No. 5 of this preamble. This proposed change would require part 141 pilot schools to revise their commercial pilot certification courses by replacing 10 hours of training in a ``complex airplane'' with 10 hours of advanced instrument training in a single-engine airplane, or in a flight simulator, flight training device, or an aviation training device that replicates a single engine airplane.

(15) Additional airplane multiengine class rating at the commercial pilot certification level—Proposal to replace the 10 hours of complex multiengine airplane training with 10 hours of advanced instrument training.

The FAA proposes to revise part 141, appendix I, paragraph 4.(k)(2)(ii) to correspond to the change proposed for part 141, appendix I, paragraph 4.(b)(2)(ii), which is previously discussed in proposal No. 6 of this preamble. This proposed change would require part 141 pilot schools to revise their commercial pilot certification courses by replacing 10 hours of training in a ``complex multiengine airplane'' with 10 hours of advanced instrument training in a multiengine airplane, or in a flight simulator, flight training device, or an aviation training device that replicates a multiengine airplane.

(16) Proposal to establish a combined private certification and instrument rating course.

The FAA proposes to add new Appendix M to part 141 to correspond to the change proposed for § 61.65(a)(1), which is discussed in proposal No. 3 of this preamble. This proposed change would provide for a combined private pilot certification and instrument rating course. As discussed in proposal No. 3 of this preamble, we propose to allow an applicant for an instrument rating to concurrently apply for a private pilot certificate.

Under this proposal, the training requirements would be 65 hours of ground training and 70 hours of flight training that includes 5 hours of flying solo. The proposal would allow the use of flight simulators, flight training devices, and aviation training devices. The percentage of usage allowed to be conducted in flight simulators, flight training devices, and aviation training devices can be found in proposed paragraph 4.(c) in appendix M to part 141.

V. Regulatory Notices and Analyses

Paperwork Reduction Act

There are no new information collection requirements associated with this NPRM. Existing information collection requirements have been approved previously by the Office of Management and Budget (OMB) under the provisions of the Paperwork Reduction Act of 1995 (44 U.S.C. 3507(d)) and have been assigned OMB Control Number 2120-0021.

International Compatibility

In keeping with U.S. obligations under the Convention on International Civil Aviation, it is FAA policy to comply with International Civil Aviation Organization (ICAO) Standards and Recommended Practices to the maximum extent practicable. The FAA has reviewed the corresponding ICAO Standards and Recommended Practices and has identified no differences with these proposed regulations.

Regulatory Evaluation, Regulatory Flexibility Determination, International Trade Impact Assessment, and Unfunded Mandates Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule. We suggest readers seeking greater detail read the full regulatory evaluation, a copy of which we have placed in the docket for this rulemaking.

In conducting these analyses, FAA has determined that this proposed rule: (1) Has benefits that justify its costs; (2) is not an economically ``significant regulatory action'' as defined in section 3(f) of Executive Order 12866; however, the Office of Management and Budget has determined that this NPRM is a ``significant regulatory action'' because it harmonizes U.S. aviation standards with those of other civil aviation authorities, (3) is ``significant'' as defined in DOT's Regulatory Policies and Procedures; (4) would not have a significant economic impact on a substantial number of small entities; (5) would not create unnecessary obstacles to the foreign commerce of the United States; and (6) would not impose an unfunded mandate on State, local, or tribal governments, or on the private sector by exceeding the threshold identified above. These analyses are summarized below.

Benefit-Cost Analysis Summary

A. Proposal To Require PIC Proficiency Checks for PICs of Single Piloted Turbojet-Powered Airplanes

Costs—The FAA estimates that there are currently about 1,550 single piloted turbojet airplanes, and more to be manufactured in the future. The FAA estimates that only approximately 325 of these airplanes are ever flown with a single pilot. The cost of PIC proficiency checks varies by the type of airplane as well as whether the check is performed in a simulator or an airplane, ranging from $600 to $2,000 per hour. In many instances, insurance carriers require annual PIC training in single piloted turbojet airplanes, so most pilots already undergo annual PIC proficiency checks to qualify for the premium reduction. Requiring proficiency checks on single piloted, turbojet-powered airplanes would be a new requirement. The FAA estimates that over 10 years costs would sum to approximately $26.8 million.

Benefits—In July 2005, the FAA convened a study group, the VLJ Cross Organizational Group, to identify areas of concern regarding the safe operation of light jets and other single piloted turbojet-powered airplanes. The FAA and this study group noted that existing regulations are currently written so that pilots in charge of other single piloted turbojet-powered airplanes are not required to receive recurrent PIC proficiency checks. The FAA is concerned these PICs could take a flight review in a small general aviation aircraft and still fly legally and carry passengers in single piloted turboprop-powered airplanes that are capable of operating at speeds of over 500 knots and with commercial jets. This proposal to require proficiency checks in single piloted, turbojet-powered airplanes and other single piloted airplanes would ensure that this would not occur, and constitutes an increase in safety.

B. Proposal To Allow the Conversion of a Foreign Pilot License to a U.S. Pilot Certificate Based on an Implementation Procedure for Licensing (IPL) Agreement

Costs and Benefits—There would be no incremental costs of implementing the Bilateral Aviation Safety Agreement (BASA). Removing barriers to getting pilot certificates and licenses and flying in both countries would encourage greater ease in flying and more efficient enforcement. By facilitating acceptance of various aspects of each country's aviation safety oversight system, the proposal should lead to less burden for pilots and aviation authorities, and could engender cost savings.

C. Proposal To Allow Pilot Schools To Use Internet-Based Training Programs Without Requiring Schools To Have a Ground Training Facility

Costs—The FAA estimates that there are currently six operators that provide online training and that between five and fifteen pilot schools might initially consider adding an on-line curriculum. The FAA has no estimate of how many more would offer this service in the longer term. FAA bases its cost estimates on an additional 10 pilot schools initially electing to use this option. The costs would involve the costs of submitting a training course for FAA approval and the FAA's processing costs. The FAA estimates that the total initial costs would sum to $10,800.

Benefits—The FAA has in the past extended approval to several training providers to conduct flight instructor refresher training via the Internet. The FAA has found this kind of training is the equivalent to that provided in a classroom setting. Pilot schools would be able to realize cost savings through the need for fewer instructors, reduced costs of curriculum maintenance, and less classroom and auxiliary support space. The extent of savings would vary by provider. The FAA calls for comments on the potential cost savings. The FAA envisions the proposal to be a win-win situation for operators, course developers, pilots, and the FAA.

D. Proposal To Change the Definition of “Complex Airplane” and Eliminate the “Complex Airplane” Training Requirements for Commercial Pilot and Flight Instructor Certification

Costs—This change would not result in incremental costs; rather, it would result in cost savings which are considered a benefit as described below.

Benefits—The FAA believes that this proposal would result in cost savings to pilot schools and training providers because they wouldn't have to keep an inventory of two kinds of airplanes to meet the commercial pilot and flight instructor certification requirements. The FAA estimates that each pilot school and training provider could save as much as $1,000 per airplane per month in maintenance and leasing costs. The FAA does not have data on the number of pilot schools and training providers maintaining inventories of airplanes equipped with the FADEC system and those without. Therefore, the FAA calls for comments on current and planned inventory levels of airplanes equipped with the FADEC system.

Substituting 10 hours of instrument training for 10 hours of “complex airplane” training would allow students to use their time more efficiently. There are fewer “complex airplanes” that anyone could fly, students would benefit more by using these extra 10 hours for instrument training rather than flying “complex airplanes.” Safety could be increased by the students getting the more useful instrument flying training.

For students, there may be cost implications to the extent that they can substitute the 10 hours in a “complex airplane” for instrument training simulator time. Under the current regulations, commercial pilot applicants are permitted to credit 25 hours in a flight simulator/flight training device toward the commercial pilot certificate, and this would not change. However, in some cases, it is possible that some applicants could benefit. It is possible that substituting instrument training for “complex airplanes” would make applicants more likely to use simulators if they would not have already trained for 25 hours in a flight simulator and so would save in terms of flight instructor costs. However, the FAA does not know how many applicants would substitute time from the currently required “complex airplane” training for instrument simulator time and so calls for comments.

E. Proposal To Allow Pilot Applicants to Apply for a Private Pilot Certificate and Instrument Rating Concurrently

Costs and Benefits—There would be cost implications for applicants, pilot schools, and the FAA, as described below.

1. Applicants

Currently, the majority of applicants obtain their pilot certification outside of a part 141 pilot school because there are more fixed base operators and independent flight instructors than there are part 141 pilot schools. However, because the amount of time required would diminish substantially under part 141 pilot school training, the FAA believes that some applicants who would otherwise get their certificates under part 61 would seek out part 141 pilot schools to receive their combined private pilot certification and instrument rating.

Over the years, about 30% of applicants for pilot certification have graduated from part 141 pilot schools. The FAA estimates that about 2% of applicants would attempt to get a combined private pilot and instrument rating. The relatively low percentage results from the costs, time, and complexity of taking the combined training, and reflects the experience of schools operating under an exemption that permitted combined training. The FAA estimates a time advantage of 20 hours for the combined rating as opposed to the individual ratings.

Cost savings would be a function of the number of applicants getting the combined certificate at part 141 schools, having to take one less exam, and filling out one less application form. FAA estimates annual cost savings for applicants of $675,400 and ten-year costs savings of $6.75 million.

2. Schools

Of the part 141 pilot schools, 367 schools provide courses for private pilot airplane certification and instrument-airplane ratings. The FAA does not know how many of these 367 schools would apply for a combined private and instrument course and calls for comments on the likelihood of schools exercising this option, and the estimated costs and benefits from doing so. Each pilot school would need to modify its syllabus to accommodate this change and submit it to its local FSDO for approval.

3. FAA

There would be both costs and cost savings to the FAA, the former involving the processing of modified syllabi and the latter involving the need to process fewer applications. At the FADO, the ASI would review and approve the course. Each applicant getting a combined private pilot and instrument rating would have to submit one less application form to the FAA for approval. Ten-year quantifiable net cost savings to the FAA would sum to $9,700.

In addition to cost saving benefits, there would also be safety benefits. Currently, many pilots get their private pilot certificate and then wait before getting their instrument rating. Until they get their instrument rating, they fly under visual flight rules (VFR). They are not qualified to fly into instrument meteorological conditions (IMC). Until they quality for their instrument rating, they are at greater risk of weather-related accidents if changing weather conditions result in their operating into IMC. The FAA believes that combined private pilot certification and instrument rating would reduce weather-related accidents. While these types of accidents comprise approximately 4.0% of total accidents for single-engine airplanes with a fixed landing gear, they account for approximately 14.0% of the fatal accidents in such airplanes. The FAA reviewed 1,928 general aviation fatal accidents from October 2002 through June 2007. About 70% of eligible pilots were instrument rated; however, about 75% of these accidents occurred under VMC. Pilots flying under VFR in bad weather are more likely to attempt to use VMC to land. About 45% of pilots flying under VFR or with no flight plan had accidents, while only 10% of pilots flying under IOFR had accidents. It is very possible that better flight planning for minimum safe altitudes in the event of inadvertent instrument meteorological conditions (IMC) would help more than altitude instrument flying and unusual altitude recovery training. Many fatal accidents are due to pilots being unable to control the airplane using instruments when they inadvertently enter IMC. However, if a pilot has an instrument rating when he or she first gets his or her private pilot certificate, then he or she is less likely to lose control of the aircraft. Thus, combined private pilot certification and instrument rating has the potential to reduce weather-related accidents of VFR flights into IMC.

F. Total Costs

Total costs of these proposals over 10 years sum to $20.01 million ($13.27 million, discounted).

Initial Regulatory Flexibility Determination

The Regulatory Flexibility Act of 1980 (RFA) establishes “as a principle of regulatory issuance that agencies shall endeavor, consistent with the objective of the rule and of applicable statutes, to fit regulatory and informational requirements to the scale of the business, organizations, and governmental jurisdictions subject to regulation.” To achieve that principle, the RFA requires agencies to solicit and consider flexible regulatory proposals and to explain the rationale for their actions. The RFA covers a wide-range of small entities, including small businesses, not-for-profit organizations and small governmental jurisdictions.

Agencies must perform a review to determine whether a proposed or final rule will have a significant economic impact on a substantial number of small entities. If the agency determines that it will, the agency must prepare a regulatory flexibility analysis as described in the Act.

However, if an agency determines that a proposed or final rule is not expected to have a significant economic impact on a substantial number of small entities, section 605(b) of the 1980 RFA provides that the head iof the agency may so certify and a regulatory flexibility analysis is not required. The certification must include a statement providing the factual basis for this determination, and the reasoning should be clear.

For this rule, affected small entity groups are considered to be corporations that own aircraft, pilot schools, and training providers. The corresponding North American Indsutry Classsification System [NAICS] are 481211 (Non scheduled Chartered Passenger Air Transportation) and 611512 (Flight Training), respectively. Some of the proposals affect only pilots; however, pilots are not considered to be small entities, so there wuold no small entity impact on pilots. The remainder of this section discusses small entity impacts in the same order as the groupings above for the benefit-cost analysis summary.

A. The proposal requiring proficiency checks for pilots in command of single piloted turbojet-powered airplanes would affect pilots, pilot examiners, and corporations that own these airplanes. Pilots are not entities, so there would not be a small entity impact with regards to pilots. The vast majority of the pilot proficiency examiners are employees of the operator, the corporation, and those that are not employees would not be considered small businesses. The cost of a proficiency check is about $1,300. Given the assumption of 1.5 pilots for each single piloted, turbojet-powered airplanes and the assumption that few corporations would have more than a few VLJs, the overall impact of these proficiency checks would be minimal, and so there would not be a significant impact.

B. The proposal to allow foreign pilot applicants to convert their foreign pilot license to a U.S. pilot certificate issued on the basis of an IPL agreement would affect pilots, who are not consdiered to be small entities.

C. The proposal to allow pilot schools to use online training without requiring a physical ground training facility would be optional. The FAA does not believe that more than 5 to 15 schools would initially take advantage of this proposal. Schools would opt to do this only if they believe that the ultimate pay off, in terms of additional students and revenue, would outweigh start-up costs and the annual maintenance costs. The FAA does not believe that there would be a significant impact on a substantial number of entities.

D. Small businesses that would be affected by the revised definition of ``complex airplane'' would be schools and training providers. Many pilot schools would not have to keep an inventory of two kinds of airplanes to meet the commercial pilot and flight instructor certification requirements. This would engender cost savings, which the FAA estimates at $1,000 per airplane annually. Accordingly, the FAA believes that this proposal would not have a significant economic impact on a substantial number of small entities.

The proposal to replace the requirement for 10 hours of ``complex airplane'' aeronautical experience with 10 hours of specific advanced instrument training with regards to the training required for a commercial pilot certificate would not have a small entity impact because pilots are not considered to be small entities.

E. The proposal allowing applicants to apply for a private pilot certificate and instrument rating concurrently and allow pilot schools to apply for a combined private pilot certification and instrument rating course would affect pilots and pilot schools. Pilots are not small businesses, so there would not be a small entity impact. Each pilot school would have one-time costs to purchase and process the new syllabus before submission to the FSDO of under $1,000, which would not be a significant impact.

Therefore, the FAA certifies that this proposed rule would not have a significant economic impact on a substantial number of small entities. The FAA solicits comments regarding this determination.

International Trade Impact Statement

The trade Agreements Act of 1979 (Pub. L. 96-39) prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this proposed rule and believes that it would impose the same costs on dometic and international entities and, thus have a neutral trade impact.

Unfunded Mandates Determination

Title II of the Unfunded Mandates Reform Act of 1995 (Pub. L. 104-4) requires each Federal agency to prepare a written statement assessing the effects of any Federal mandate in a proposed or final agency rule that may result in an expenditure of $100 million or more (adjusted annually for inflation) in any one year by State, local, and tribal governments, in the aggregate, or by the private sector; such a mandate is deemed to be a ``significant regulatory action.'' The FAA currently uses an inflation-adjusted value of $136.1 million in lieu of $100 million.

This proposed rule does not contain such a mandate. Therefore the requirements of Title II do not apply.

Executive Order 13132, Federalism

The FAA has analyzed this proposed rule under the principles and criteria of Executive Order 13132, Federalism. We determined that this action would not have a substantial direct effect on the States, on the relationship between the national Government and the States, or on the distribution of power and responsibilities among the various levels of government, and, therefore, would not have federalism implications.

Plain English

Executive Order 12866 (58 FR 51735, October 4, 1993) requires each agency to write regulations that are simple and easy to understand. We invite your comments on how to make these proposed regulations easier to understand, including answers to questions such as the following:

• Are the requirements in the proposed regulations clearly stated?

• Do the proposed regulations contain unnecessary technical language or jargon that interferes with their clarity?

• Would the regulations be easier to understand if they were divided into more (but shorter) sections?

• Is the description in the preamble helpful in understanding the proposed regulations? Please send your comments to the address specified in the ADDRESSES section.

Environmental Analysis

FAA Order 1050.1E identifies FAA actions that are categorically excluded from preparation of an environmental assessment or environmental impact statement under the National Environmental Policy Act in the absence of extraordinary circumstances. The FAA has determined this proposed rulemaking action qualifies for the categorical exclusion identified in paragraph 307(k) and involves no extraordinary circumstances.

Regulations That Significantly Affect Energy Supply, Distribution, or Use

The FAA has analyzed this NPRM under Executive Order 13211, Actions Concerning Regulations that Significantly Affect Energy Supply, Distribution, or Use (May 18, 2001). We have determined that it is not a “significant energy action” under the executive order because it is not a “significant regulatory action” under Executive Order 12866, and it is not likely to have a significant adverse effect on the supply, distribution, or use of energy.

VI. Additional Information

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments one time.

We will file in the docket all comments we receive, as well as a report summarizing each substantive public contact with FAA personnel concerning this proposed rulemaking. Before acting on this proposal, we will consider all comments we receive on or before the closing date for comments. We will consider comments filed after that comment period has closed if it is possible to do so without incurring expense or delay. We may change this proposal in light of the comments we receive.

Proprietary or Confidential Business Information

Do not file in the docket information that you consider to be proprietary or confidential business information. Send or deliver this information directly to the person identified in the FOR FURTHER INFORMATION CONTACT section of this document. You must mark the information that you consider proprietary or confidential. If you send the information on a disk or CD ROM, mark the outside of the disk or CD ROM and also identify electronically within the disk or CD ROM the specific information that is proprietary or confidential.

Under 14 CFR 11.35(b), when we are aware of proprietary information filed with a comment, we do not place in the docket. We hold it in a separate file to which the public does not have access, and place a note in the docket that we have received it. If we receive a request to examine or copy this information, we treat it as any other request under the Freedom of Information Act (5 U.S.C. 552). We process such a request under the DOT procedures found in 49 CFR part 7.

Availability of Rulemaking Documents

You can get an electronic copy using the Internet by—

1. Searching the Federal eRulemaking Portal (http://www.regulations.gov);

2. Visiting the FAA's Regulations and Policies Web page at: http://www.faa.gov/regulations_policies/; or

(3) Accessing the Government Printing Office's Web page at: http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

You may access all documents the FAA considered in developing this proposed rule, including economic analyses and technical reports, from the internet through the Federal eRulemaking Portal referenced in paragraph (1).

List of Subjects

14 CFR Part 61

Aircraft, Airmen, Alcohol abuse, Aviation safety, Drug abuse, Recreation and recreation areas, Reporting and recordkeeping requirements, Security measures, Teachers.

14 CFR Part 91

Afghanistan, Agriculture, Air traffic control, Aircraft, Airmen, Airports, Aviation safety, Canada, Cuba, Ethiopia, Freight, Mexico, Noise control, Political candidates, Reporting and recordkeeping requirements, Yugoslavia.

14 CFR Part 141

Airmen, Educational facilities, Reporting and recordkeeping requirements, Schools.

The Proposed Amendment

In consideration of the foregoing, the Federal Aviation Administration proposes to amend Chapter I of Title 14, Code of Federal Regulations, and, at amendatory instruction 14, as amended on August 21, 2009 (74 FR 42566), and effective October 20, 2009, as follows:

PART 61—CERTIFICATION: PILOTS AND FLIGHT INSTRUCTORS

1. The authority citation for part 61 continues to read as follows:

Authority: 49 U.S.C. 106(g), 40113, 44701-44703, 44707, 44709-44711, 45102-45103, 45301-45302.

2. Amend § 61.1 by re-designating paragraphs (b)(3) through (b)(16) as paragraphs (b)(4) through (b)(17) respectively, and by adding a new paragraph (b)(3) to read as follows:

§ 61.1 Applicability and definitions.

* * * * *

(b) * * *

(3) Complex airplane means an airplane that has a retractable landing gear, flaps, and a controllable pitch propeller, including airplanes equipped with an engine control system consisting of a digital computer and associated accessories for controlling the engine and propeller, such as a full authority digital engine control (FADEC). A complex seaplane would not necessarily be equipped with a retractable landing gear.

* * * * *

Amend § 61.31 by revising the introductory text of paragraph (e)(1) to read as follows:

§ 61.31 Type rating requirements, additional training, and authorization requirements.

* * * * *

(e) * * *

(1) Except as provided in paragraph (e)(2) of this section, no person may act as pilot in command of a complex airplane, unless the person has—

* * * * *

4. Amend § 61.58 by revising the section heading; paragraphs (a), (d)(1), (d)(2), (d)(3), and (d)(4) to read as follows:

§ 61.58 Pilot-in-command proficiency check: Operation of an aircraft that requires more than one pilot flight crewmember or is turbojet-powered.

(a) Except as otherwise provided in this section, to serve as pilot in command of an aircraft that is type certificated for more than one required pilot crewmember, or is turbojet-powered, a person must—

(1) Within the preceding 12 calendar months, complete a pilot-in-command proficiency check in an aircraft in which that person will serve as pilot-in-command, that is type certificated for more than one required pilot flight crewmember, or is turbojet-powered; and

(2) Within the preceding 24 calendar months, complete a pilot-in-command proficiency check in the particular type of aircraft in which that person will serve as pilot-in-command, that is type certificated for more than one required pilot flight crewmember, or is turbojet-powered.

* * * * *

(d) * * *

(1) A pilot-in-command proficiency check conducted by a person authorized by the Administrator, consisting of the aeronautical knowledge areas, areas of operations, and tasks required for a type rating, in an aircraft that is type certificated for more than one pilot flight crewmember or is turbojet-powered.

(2) The practical test required for a type rating, in an aircraft that is type certificated for more than one required pilot flight crewmember or is turbojet-powered;

(3) The initial or periodic practical test required for the issuance of a pilot examiner or check airman designation, in an aircraft that is type certificated for more than one required pilot flight crewmember or is turbojet-powered;

(4) A pilot proficiency check administered by a U.S. Armed Force that qualifies the military pilot for pilot-in-command designation with instrument privileges, and was performed in a military aircraft that the military requires to be operated by more than one pilot flight crewmember or is turbojet-powered.

* * * * *

5. Amend § 61.65 by revising paragraph (a)(1) to read as follows:

§ 61.65 Instrument rating requirements.

(a) * * *

(1) Hold at least a current private pilot certificate, or be concurrently applying for a private pilot certificate, with an airplane, helicopter, or powered-lift rating appropriate to the instrument rating sought;

* * * * *

6. Amend § 61.71 by adding new paragraph (c) to read as follows:

§ 61.71 Graduates of an approved training program other than under this part: Special rules.

* * * * *

(c) A person who holds a foreign pilot license and is applying for an equivalent U.S. pilot certificate on the basis of an approved Implementation Procedures for Licensing agreement is considered to have met the applicable aeronautical experience, aeronautical knowledge, and areas of operation requirements of this part.

7. Amend § 61.129 by revising paragraphs (a)(3)(ii) and (b)(3)(ii) to read as follows:

§ 61.129 Aeronautical experience.

(a) * * *

(3) * * *

(ii) 10 hours of advanced instrument training in a single engine airplane, or in a flight simulator, flight training device, or an aviation training device that replicates a single engine airplane, and the training must include instrument approaches consisting of both precision and non-precision approaches, holding at navigational radio stations, intersections, waypoints, and cross-country flying that involves performing takeoff, area departure, enroute, area arrival, approach, and missed approach phases of flight;

* * * * *

(b) * * *

(3) * * *

(ii) 10 hours of advanced instrument training in a multiengine airplane, or in a flight simulator, flight training device, or an aviation training device that replicates a multiengine airplane, and the training must include instrument approaches consisting of both precision and non-precision approaches, holding at navigational radio stations, intersections, waypoints, and cross-country flying that involves performing takeoff, area departure, enroute, area arrival, approach, and missed approach phases of flight;

* * * * *

PART 91—GENERAL OPERATING AND FLIGHT RULES

8. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 stat. 1180).

9. Amend § 91.109 by revising paragraphs (a) introductory text and (b)(3) to read as follows:

§ 91.109 Flight instruction; Simulated instrument flight and certain flight tests.

(a) No person may operate a civil aircraft (except a manned free balloon) that is being used for flight instruction unless that aircraft has fully functioning dual controls. However, instrument flight instruction may be given in an airplane that is equipped with a single, functioning throwover control wheel that controls the elevator and ailerons, in place of fixed, dual controls, when—

* * * * *

(b) * * *

(3) Except in the case of lighter-than-air-aircraft, the aircraft must be equipped with fully functioning dual controls. However, an airplane equipped with a single functioning, throwover control wheel that controls the elevator and ailerons may be used in accordance with the following conditions and limitations:

(1) The airplane's pilot stations must be side-by-side seating.

(ii) An airplane with only a single functioning, throwover control wheel must be equipped with operable rudder pedals at both pilot stations.

(iii) An airplane equipped with a single functioning, throwover control wheel may be used for:

(A) Conducting a flight review required by § 61.56 of this chapter.

(B) Obtaining a recent flight experience as required by § 61.57 of this chapter.

(C) Maintaining instrument proficiency as required by § 61.57(c) or (d) of this chapter.

(iv) The pilot manipulating the controls of an airplane with only a single functioning, throwover control wheel must be qualified to, and serve as, pilot in command of the airplane.

(v) To serve as a flight instructor in an airplane with only a single functioning, throwover control wheel, that flight instructor must:

(A) Be current and qualified to serve as the pilot in command and flight instructor in the airplane involved, as required by § 61.195(b) and (f) of this chapter; and

(B) Have logged at least 25 hours of pilot in command flight time in that make and model of airplane with a single, functioning throwover control wheel involved.

* * * * *

PART 141—PILOT SCHOOLS

10. The authority citation for 14 CFR part 141 continues to read as follows:

Authority: 49 U.S.C. 106(g), 40113, 44701-44703, 44707, 44709, 44711, 45102-45103, 45301-45302.

11. Revise § 141.45 to read as follows:

§ 141.45 Ground training facilities.

An applicant for a pilot school or provisional pilot school certificate must show that:

(a) Except as provided in paragraph (c) of this section, each room, training booth, or other space used for instructional purposes is heated, lighted, and ventilated to conform to local building, sanitation, and health codes.

(b) Except as provided in paragraph (c) of this section, the training facility is so located that the students in that facility are not distracted by the training conducted in other rooms, or by flight and maintenance operations on the airport.

(c) If a training course is conducted through an Internet-based medium, the pilot school or provisional pilot school that provides the training must comply with the following:

(1) The school must maintain a permanent business location and business telephone number.

(2) The school must inform the FAA within 3 working days of any change of location of its permanent business address.

(3) The school must maintain its FAA-aproved training course outline and student records at its permanent business location.

(4) The school must ensure that its approved Training Course Outlines are adhered to by its students and instructors.

(5) The school will issue to each graduate of its approved training courses, a sequentially numbered graduation certificate containing at least the following information:

(i) The school's full business name and address.

(ii) The full name and address of each graduate.

(iii) The date of issuance of the graduation certificate.

(iv) In accordance with § 61.719a) of this chapter, a statement that the graduation certificate is valid for 60 days from the date of issuance.

(v) The signature of the chief instructor or its FAA-approved Airman Certification Representative (ACR).

(6) The school must maintain a record of the complete name and addressed of all of its students, whether a graduation certificate was issued or denied. If a graduation certificate is denied, the reason must be stated in that student's file. Student records must be maintained for a period of at least 12 calendar months after the student has completed or was terminated from the training course.

(7) The school must maintain in current status, its mailing address, telephone number, and facsimile number for a point of contact for all its Internet-based training courses.

(8) The school must submit its training course outlines revisions to the FAA that are identified numerically by page, date, and screen, at least 30 days prior to their planned use of the training course outline. Minor editorial and typographical changes do not require FAA approval, provided the school notifies the FAA within 30 days of their insertion.

(9) For monitoring purposes, the school must provide the FAA an acceptable means to:

(i) Log-in and review all elements of the course as viewed by attendees and to by-pass the normal attendee restrictions.

(ii) Logoff at will from a remote location.

(10) The school must incorporate adequate security measures into its Internet-based courseware information system and into its operating and maintenance procedures to ensure the following fundamental areas of security and protection:

(i) Integrity.

(ii) Identification/Authentication.

(iii) Confidentiality.

(iv) Availability.

(v) Access Control.

(11) The pilot school must design its Internet-based courses to ensure that the data will not be exposed to accidental alteration or destruction, and that the data is the same as that in source documents or has been correctly computed from source data without inappropriate alteration.

(12) When requested by the FAA, the pilot school must make the following information about its Internet-based courses readily available to the FAA in a timely manner. The information must be held in confidence to protect that information from unauthorized disclosure. The information that must be made available to the FAA, includes:

(i) Training course material and content.

(ii) Name of the student to include the student's pilot certificate number, address, and telephone number.

(iii) Training folder or electronic training record, as appropriate, of the individual student.

(iv) Tests taken by the individual student.

(v) Test results record of the individual student.

(vi) Copy of the graduation certificate of the individual student.

(13) The pilot school must use software in the design of its Internet-based training courses that provides for accountability and traceability that enables any violations and attempted violations of security protections to be traced to an individual who may have committed such acts.

12. Amend § 141.55 by revising paragraph (c)(1) to read as follows:

§ 141.55 Training course: Contents.

* * * * *

(c) * * *

(1) A description of each room used for ground training, including the room's size and the maximum number of students that may be trained in the room at one time, unless the course is provided via an Internet-based training medium;

* * * * *

13. Amend Appendix D to part 141 by revising paragraphs 4.(b)(1)(ii) and 4.(b)(2)(ii) to read as follows:

Appendix D to Part 141—Commercial Pilot Certification Course

* * * * *

4. * * *

(b) * * *

(1) * * *

(ii) 10 hours of advanced instrument training in a single-engine airplane, or in a flight simulator, flight training device, or an aviation training device that replicates a single-engine airplane, and the training must include instrument approaches consisting of both precision and non-precision approaches, holding at navigational radio stations, intersections, waypoints, and cross-country flying that involves performing takeoff, area departure, enroute, area arrival, approach, and missed approach phases of flight;

* * * * *

(2) * * *

(ii) 10 hours of advanced instrument training in a multiengine airplane, or in a flight simulator, flight training device, or an aviation training device that replicates a multiengine airplane, and the training must include instrument approaches consisting of both precision and non-precision approaches, holding at navigational radio stations, intersections, waypoints, and cross-country flying that involves performing takeoff, area departure, enroute, area arrival, approach, and missed approach phases of flight;

* * * * *

14. Amend Appendix I to part 141, as amended on August 21, 2009 (74 FR 42566), and effective October 20, 2009, by revising paragraphs 4.(a)(3)(ii), (b)(2)(ii), (j)(2)(ii), and (k)(2)(ii) to read as follows:

Appendix I to Part 141—Additional Aircraft Category and/or Class Rating Course

* * * * *

4. * * *

(a) * * *

(3) * * *

(ii) 10 hours of advanced instrument training in a single-engine airplane, or in a flight simulator, flight training device, or an aviation training device that replicates a single-engine airplane and the training must include instrument approaches consisting of both precision and non-precision approaches, holding at navigational radio stations, intersections, waypoints, and cross-country flying that involves performing takeoff, area departure, enroute, area arrival, approach, and missed approach phases of flight;

* * * * *

(b) * * *

(2) * * *

(ii) 10 hours of advanced instrument training in a multiengine airplane, or in a flight simulator, flight training device, or an aviation training device that replicates a multiengine airplane and the training must include instrument approaches consisting of both precision and non-precision approaches, holding at navigational radio stations, intersections, waypoints, and cross-country flying that involves performing takeoff, area departure, enroute, area arrival, approach, and missed approach phases of flight;

* * * * *

(i) * * *

(2) * * *

10 hours of advanced instrument training in a single-engine airplane, or in a flight simulator, flight training device, or an aviation training device that replicates a single-engine airplane and the training must include instrument approaches consisting of both precision and non-precision approaches, holding at navigational radio stations, intersections, waypoints, and cross-country flying that involves performing takeoff, area departure, enroute, area arrival, approach, and missed approach phases of flight;

* * * * *

(k) * * *

(2) * * *

(ii) 10 hours of advanced instrument training in a multiengine airplane, or in a flight simulator, flight training device, or an aviation training device that replicates a multiengine airplane and the training must include instrument approaches consisting of both precision and non-precision approaches, holding at navigational radio stations, intersections, waypoints, and cross-country flying that involves performing takeoff, area departure, enroute, area arrival, approach, and missed approach phases of flight;

* * * * *

15. Add new Appendix M to Part 141 to read as follows:

Appendix M to Part 141—Combined Private Pilot Certification and Instrument Rating Course

1. Applicability. This appendix prescribes the minimum curriculum for a combined private pilot certification and instrument rating course required under this part, for the following ratings:

(a) Airplane.

(1) Airplane single engine.

(2) airplane multiengine.

(b) Rotocraft helicopter.

(c) Powered-lift.

2. Eligibility for enrollment. A person must hold a sport pilot, recreational, or student pilot certificate prior to enrolling in the flight portion of a combined private pilot certification and instrument rating course.

3. Aeronautical knowledge training.

(a) Each approved course must include at least 65 hours of ground training on the aeronautical knowledge areas listed in paragraph (b) of this section that are appropriate to the aircraft category and class rating of the course:

(b) Ground training must include the following aeronautical knowledge areas:

(1) Applicable Federal Aviation Regulations for private pilot privileges, limitations, flight operations, and IFR flight operations.

(2) Accident reporting requirements of the National Transportation Safety Board.

(3) Applicable subjects of the “Aeronautical Information Manual” and the appropriate FAA advisory circulars.

(4) Aeronautical charts for VFR navigation using pilotage, dead reckoning, and navigation systems.

(5) Radio communication procedures.

(6) Recognition of critical weather situations from the ground and in flight, windshear avoidance, and the procurement and use of aeronautical weather reports and forecasts.

(7) Safe and efficient operation of aircraft and under instrument flight rules and conditions.

(8) Collision avoidance and recognition and avoidance of wake turbulence.

(9) Effects of density altitude on takeoff and climb performance.

(10) Weight and balance computations.

(11) Principles of aerodynamics, powerplants, and aircraft systems.

(12) If the course of training is for an airplane category, stall awareness, spin entry, spins, and spin recovery techniques.

(13) Air traffic control system and procedures for instrument flight operations.

(14) IFR navigation and approaches by use of navigation systems.

(15) Use of IFR en route and instrument approach procedure charts.

(16) Aeronautical decision making and judgment.

(17) Preflight action that includes—

(i) How to obtain information on runway lengths at airports of intended use, data on takeoff and landing distances, weather reports and forecasts, and fuel requirements.

(ii) How to plan for alternatives if the planned flight cannot be completed or delays are encountered.

(iii) Procurement and use of aviation weather reports and forecasts, and the elements of forecasting weather trends on the basis of that information and personal observation of weather conditions.

4. Flight training.

(a) Each approved course must include at least seventy hours of training, as described in section 4 and section 5 of this appendix, on the approved areas of operation listed in paragraph (d) of section 4 that are appropriate to the aircraft category and class rating of the course:

(b) Each approved course must include at least the following flight training:

(1) For an airplane single-engine course: Seventy hours of flight training from an authorized instructor on the approved areas of operation in paragraph (d)(1) of this section that includes at least—

(i) Except as provided in § 61.111 of this chapter, 3 hours of cross-country flight training in a single-engine airplane.

(ii) Three hours of night flight training in a single-engine airplane that includes—

(A) One cross-country flight of more than 100 nautical miles total distance.

(B) Ten takeoffs and 10 landings to a full stop (with each landing involving a flight in the traffic pattern) at an airport.

(iii) Thirty-five hours of instrument flight training in a single-engine airplane that includes at least one cross-country flight that is performed under IFR and—

(A) Is a distance of at least 250 nautical miles along airways or ATC-directed routing with one segment of the flight consisting of at least a straight-line distance of 100 nautical miles between airports.

(B) Involves an instrument approach at each airport.

(C) Involves three different kinds of approaches with the use of navigation systems.

(iv) Three hours of flight training in a single-engine airplane in preparation for the practical test within 60 days preceding the date of the test.

(2) For an airplane multiengine course: Seventy hours of training from an authorized instructor on the approved areas of operation in paragraph (d)(2) of this section that includes at least—

(i) Except as provided in § 61.111 of this chapter, 3 hours of cross-country flight training in a multiengine airplane.

(ii) Three hours of night flight training in a multiengine airplane that includes—

(A) One cross-country flight of more than 100 nautical miles total distance.

(B) Ten takeoffs and 10 landings to a full stop (with each landing involving a flight in the traffic pattern) at an airport.

(iii) Thirty-five hours of instrument flight training in a multiengine airplane that includes at least one cross-country flight that is performed under IFR and—

(A) Is a distance of at least 250 nautical miles along airways or ATC-directed routing with one segment of the flight consisting of at least a straight-line distance of 100 nautical miles between airports.

(B) Involves an instrument approach at each airport.

(C) Involves three different kinds of approaches with the use of navigation systems.

(iv) Three hours of flight training in a multiengine airplane in preparation for the practical test within 60 days preceding the date of the test.

(3) For a rotorcraft helicopter course: Seventy hours of training from an authorized instructor on the approved areas of operation in paragraph (d)(3) of this section that includes at least—

(i) Except as provided in § 61.111 of this chapter, 3 hours of cross-country flight training in a helicopter.

(ii) Three hours of night flight training in a helicopter that includes—

(A) One cross-country flight of more than 50 nautical miles total distance.

(B) Ten takeoffs and 10 landings to a full stop (with each landing involving a flight in the traffic pattern) at an airport.

(iii) Thirty-five hours of instrument flight training in a helicopter that includes at least one cross-country flight that is performed under IFR and—

(A) Is a distance of at least 100 nautical miles along airways or ATC-directed routing with one segment of the flight consisting of at least a straight-line distance of 50 nautical miles between airports.

(B) Involves an instrument approach at each airport.

(C) Involves three different kinds of approaches with the use of navigation systems.

(iv) Three hours of flight training in a helicopter in preparation for the practical test within 60 days preceding the date of the test.

(4) For a powered-lift course: Seventy hours of training from an authorized instructor on the approved areas of operation in paragraph (d)(4) of this section that includes at least—

(i) Except as provided in § 61.111 of this chapter, 3 hours of cross-country flight training in a powered-lift.

(ii) Three hours of night flight training in a powered-lift that includes—

(A) One cross-country flight of more than 100 nautical miles total distance.

(B) Ten takeoffs and 10 landings to a full stop (with each landing involving a flight in the traffic pattern) at an airport.

(iii) Thirty-five hours of instrument flight training in a powered-lift that includes at least one cross-country flight that is performed under IFR and—

(A) Is a distance of at least 250 nautical miles along airways or ATC-directed routing with one segment of the flight consisting of at least a straight-line distance of 100 nautical miles between airports.

(B) Involves an instrument approach at each airport.

(C) Involves three different kinds of approaches with the use of navigation systems.

(iv) Three hours of flight training in a powered-lift in preparation for the practical test, within 60 days preceding the date of the test.

(c) For use of flight simulators or flight training devices:

(1) The course may include training in a combination of flight simulators, flight training devices, and aviation training device, provided it is representative of the aircraft for which the course is approved, meets the requirements of this section, and the training is given by an authorized instructor.

(2) Training in a flight simulator that meets the requirements of § 141.41(a) of this part may be credited for a maximum of 35 percent of the total flight training hour requirements of the approved course, or of this section, whichever is less.

(3) Training in a flight training device or aviation training device that meets the requirements of § 141.41(b) of this part may be credited for a maximum of 25 percent of the total flight training hour requirements of the approved course, or of this section, whichever is less.

(4) Training in a combination of flight simulators, flight training devices, or aviation training devices, described in paragraphs (c)(2) and (c)(3) of this section, may be credited for a maximum of 35 percent of the total flight training hour requirements of the approved course, or of this section, whichever is less. However, credit for training in a flight training device and aviation training device, that meets the requirements of § 141.41(b), cannot exceed the limitation provided for in paragraph (c)(3) of this section.

(d) Each approved course must include the flight training on the approved areas of operation listed in this section that are appropriate to the aircraft category and class rating course—

(1) For a combined private pilot certification and instrument rating course involving a single-engine airplane:

(i) Preflight preparation.

(ii) Preflight procedures.

(iii) Airport and seaplane base operations.

(iv) Takeoffs, landings, and go-arounds.

(v) Performance maneuvers.

(vi) Ground reference maneuvers.

(vii) Navigation and navigation systems.

(viii) Slow flight and stalls.

(ix) Basic instrument maneuvers, flight by reference to instruments, and instrument approach procedures.

(x) Air traffic control clearances and procedures.

(xi) Emergency operations.

(xii) Night operations.

(xiii) Postflight procedures.

(2) For a combined private pilot certification and instrument rating course involving a multiengine airplane:

(i) Preflight preparation.

(ii) Preflight procedures.

(iii) Airport and seaplane base operations.

(iv) Takeoffs, landings, and go-arounds.

(v) Performance maneuvers.

(vi) Ground reference maneuvers.

(vii) Navigation and navigation systems.

(vii) Basic instrument maneuvers, flight by reference to instruments, and instrument approach procedurse.

(viii) Slow flight and stalls.

(ix) Basic instrument maneuvers, flight by reference to instruments, and instrument approach procedures.

(x) Air traffic control clearances and procedures.

(xi) Emergency operations.

(xii) Multiengine operations.

(xiii) Night operations.

(xiv) Postflight procedures.

(3) For a combined private pilot certification and instrument rating course involving a helicopter:

(i) Preflight preparation.

(ii) Preflight procedures.

(iii) Airport and heliport operations.

(iv) Hovering maneuvers.

(v) Takeoffs, landings, and go-arounds.

(vi) Performance maneuvers.

(vii) Navigation and navigation systems.

(viii) Basic instrument maneuvers, flight by reference instruments, and instrument approach procedures.

(ix) Air traffic control clearances and procedures.

(x) Emergency operations.

(xi) Night operations.

(xii) Postflight procedures.

(4) For a combined private pilot certification and instrument rating course involving a powered-lift:

(i) Preflight preparation.

(ii) Preflight procedures.

(iii) Airport and heliport operations.

(iv) Hovering maneuvers.

(v) Takeoffs, landings, and go-arounds.

(vi) Performance maneuvers.

(vii) Ground reference maneuvers.

(viii) Navigation and navigation systems.

(ix) Slow flight and stalls.

(x) Basic instrument maneuvers, flight by reference to instruments, and instrument approach procedures.

(xi) Air traffic control clearances and procedures.

(xii) Emergency operations.

(xiii) Night operations.

(xiv) Postflight procedures.

5. Solo flight training. Each approved course must include at least the following solo flight training:

(a) For a combined private pilot certification and instrument rating course involving an airplane single-engine: Five hours of flying solo in a single-engine airplane on the appropriate areas of operation in paragraph (d)(1) of section 4 of this appendix that includes at least—

(1) One solo cross-country flight of a least 100 nautical miles with landings at a minimum of three points, and one segment of the flight consisting of a straight-line distance of at least 50 nautical miles between the takeoff and landing locations.

(2) Three takeoffs and three landings to a full stop (with each landing involving a flight in the traffic pattern) at an airport with an operating control tower.

(b) For a combined private pilot certification and instrument rating course involving an airplane multiengine: Five hours of flying solo in a multiengine airplane or 5 hours of performing the duties of a pilot in command while under the supervision of an authorized instructor. The training must consist of the appropriate areas of operation in paragraph (d)(2) of section 4 of this appendix, and include at least—

(1) One cross-country flight of at least 100 nautical miles with landings at a minimum of three points, and one segment of the flight consisting of a straight-line distance of at least 50 nautical miles between the takeoff and landing locations.

(2) Three takeoffs and three landings to a full stop (with each landing involving a flight in the traffic pattern) at an airport with an operating control tower.

(c) For a combined private pilot certification and instrument rating course involving a helicopter: Five hours of flying solo in a helicopter on the appropriate areas of operation in paragraph (d)(3) of section 4 of this appendix that includes at least—

(1) One solo cross-country flight of at least 50 nautical miles with landings at a minimum of three points, and one segment of the flight consisting of a straight-line distance of at least 50 nautical miles between the takeoff and landing locations.

(2) Three takeoffs and three landings to a full stop (with each landing involving a flight in the traffic pattern) at an airport with an operating control tower.

(d) For a combined private pilot certification and instrument rating course involving a powered-life: Five hours of flying solo in a powered-lift on the appropriate areas of operation in paragraph (d)(4) of section 4 of this appendix that includes at least—

(1) One solo cross-country flight of at least 100 nautical miles with landings at a minimum of three points, and one segment of the flight consisting of a straight-line distance of at least 50 nautical miles between the takeoff and landing locations.

(2) Three takeoffs and three landings to a full stop (with each landing involving a flight in the traffic pattern) at an airport with an operating control tower.

6. Stage checks and end-of-course tests.

(a) Each student enrolled in a private pilot course must satisfactorily accomplish the stage checks and end-of-course tests in accordance with the school's approved training course that consists of the approved areas of operation listed in paragraph (d) of section 4 of this appendix that are appropriate to the aircraft category and class rating for which the course applies.

(b) Each student must demonstrate satisfactory proficiency prior to receiving an endorsement to operate an aircraft in solo flight.

Issued in Washington, DC, on August 3, 2009.
John M. Allen,
Director, Flight Standards Service.

[FR Doc. E9-20957 Filed 8-28-09; 8:45 am]

BILLING CODE 4910-13-P